DEPARTMENT OF EDUCATION

National Committee on Foreign Medical Education and Accreditation Meeting

AGENCY: National Committee on Foreign Medical Education and Accreditation, Office of Postsecondary Education, U.S. Department of Education

What is the purpose of this notice?

The purpose of this notice is to announce the upcoming meeting of the National Committee on Foreign Medical Education and Accreditation (NCFMEA). For each country reviewed, the staff presentations, country representative presentations, and some Committee deliberations are open to the public, and the public is invited to attend those portions.

When and where will the meeting take place?

The public meeting will be held on Friday, October 21, 2011, from 8 a.m. until approximately 5 p.m., U.S. Department of Education, Potomac Center Plaza Building, 550 Twelfth Street, SW., Washington, DC 20202. Due to security restrictions, all attendees must pre-register. Please e-mail your registration request to aslrecordsmanager@ed.gov by October 14, 2011, and include “NCFMEA Meeting Registration” in the subject line. Your request should include your name, title, affiliation, mailing address, e-mail address, telephone and facsimile numbers, and Web site (if any) of the person/group requesting registration. Also, since all audience members will need to be escorted within the building, please bring an identification card with your picture on it to the NCFMEA table that will be set up in the building's lobby. If you have any questions about the meeting registration process, please e-mail the contact person listed below prior to October 14, 2011.

What assistance will be provided to individuals with disabilities?

The meeting site is accessible to individuals with disabilities. If you will need an auxiliary aid or service to participate in the meeting (e.g., interpreting service, assistive listening device, or materials in an alternate format), notify the contact person listed in this notice by October 14, 2011. Although we will attempt to meet a request received after that date, we may not be able to make available the requested auxiliary aid or service because of insufficient time to arrange it.

Who is the contact person for the meeting?

Please contact Melissa Lewis, the Executive Director for the NCFMEA, if you have questions about the meeting. You may contact her at the U.S. Department of Education, 1990 K St. NW., Room 8060, Washington, DC 20006-8129, telephone: 202-219-7009, fax: 202-219-7005, e-mail: Melissa.Lewis@ed.gov. Individuals who use a telecommunications device for the deaf (TDD) may call the Federal Information Relay Service at 1-800-877-8339.

What are the functions of the NCFMEA?

The NCFMEA was established by the Secretary of Education under Section 102 of the Higher Education Act of 1965, as amended. The NCFMEA's responsibilities are to:

• Upon request of a foreign country, evaluate the standards of accreditation applied to medical schools in that country; and,

• Determine the comparability of those standards to standards for accreditation applied to United States medical schools. Comparability of the applicable accreditation standards is an eligibility requirement for foreign medical schools to participate in the Federal Family Education Loan Program, 20 U.S.C. 1071 et seq.

What items will be on the agenda for discussion at the meeting?

The Committee will review the standards of accreditation applied to medical schools by several foreign countries to determine whether those standards are comparable to the standards of accreditation applied to medical schools in the United States. Discussions of the standards of accreditation will be held in sessions open to the public. Discussions resulting in specific determinations of comparability are closed to the public in order that each country may be properly notified of the decision. The countries scheduled to be discussed at the meeting include: Czech Republic, Dominica, Dominican Republic, Hungary, The Netherlands, Mexico, Philippines, Poland, and St. Maarten. The meeting agenda, as well as the staff analyses pertaining to this meeting, will be posted on the Department of Education's Web site at the following address: http://www.ed.gov/about/bdscomm/list/ncfmea.html.

How may I obtain electronic access to this document?

The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Eduardo M. Ochoa,
Assistant Secretary for Postsecondary Education.

[FR Doc. 2011-26504 Filed 10-12-11; 8:45 am]

BILLING CODE 4000-01-P